DEPARTMENT OF COMMERCE

National Oceanic and Atmospheric Administration

15 CFR Part 922

Florida Keys National Marine Sanctuary Draft Revised Management Plan

AGENCY: National Marine Sanctuary Program (NMSP), National Ocean Service (NOS), National Oceanic and Atmospheric Administration (NOAA), Department of Commerce (DOC).

ACTION: Notice of public availability of draft management plan.

SUMMARY: The National Oceanic and Atmospheric Administration (NOAA) is proposing a draft revised management plan for the Florida Keys National Marine Sanctuary (FKNMS or Sanctuary). NOAA is issuing this notice to the public to invite advice, recommendations, information, and other comments from interested parties on the proposed Draft Management Plan. Public hearings will be held as detailed below:

(1) Monday, March 28, 2005, 4 p.m.-8 p.m., in Marathon, FL.

(2) Tuesday, March 29, 2005, 4 p.m.-8 p.m., in Key Largo, FL.

(3) Wednesday, March 30, 2005, 4 p.m.-8 p.m., in Key West, FL.

DATES: Comments will be considered if received by April 15, 2005.

ADDRESSES: Written comments should be sent by mail to Billy Causey, Superintendent, Florida Keys National Marine Sanctuary, P.O. Box 500368, Marathon, FL 33050, by e-mail to fknms5yearreview@noaa.gov, or by fax to (305) 743-2357. Copies of the revised management plan are available on the Sanctuary Web site: http://floridakeys.noaa.gov. They are also available from the three Sanctuary offices:

(A) FKNMS Headquarters—Main House, 5550 Overseas Hwy, Marathon, FL 33050

(B) Upper Region Office—95230 Overseas Hwy, Key Largo, FL 33037

(C) Lower Region Office—216 Ann Street, Key West, FL 33040

Public hearings will be held at:

(1) Monroe County Government Center—BOCC Meeting Room, 2798 Overseas Highway, Mile Marker 50, Marathon, FL.

(2) Key Largo Library Meeting Room, 10100 Overseas Hwy, Tradewinds Plaza, Key Largo, FL.

(3) Harvey Government Center—BOCC Meeting Room, 1200 Truman Ave., Key West, FL.

FOR FURTHER INFORMATION CONTACT: FKNMS Headquarters at (305) 743-2437 extension 0 or fknms5yearreview@noaa.gov.

SUPPLEMENTARY INFORMATION:

Introduction

Pursuant to both Federal and State requirements, the National Marine Sanctuary Program has completed its review of the management plan for the Florida Keys National Marine Sanctuary (FKNMS or Sanctuary). In 1992, when Congress reauthorized the National Marine Sanctuaries Act, it required all National Marine Sanctuaries to review their management plans every five years. The Florida Governor and Cabinet, as trustees for the State, also mandated a five-year review of the Florida Keys National Marine Sanctuary (FKNMS) Management Plan in their January 28, 1997 resolution.

The FKNMS draft revised management plan is a report on the results of NOAA's five-year review of the strategies and activities detailed in the 1997 Final Management Plan and Environmental Impact Statement for the Florida Keys National Marine Sanctuary. It serves two primary purposes: (1) To update readers on the accomplishments of successfully implemented strategies; and, (2) to disseminate useful information about the Sanctuary and its management strategies, activities and products. The intent is that this information, which charts the next 5 years of sanctuary management, will enhance the communication and cooperation toward enhancing protecting important national resources.

The 1997 Final Management Plan

After the initial six-year FKNMS planning process, a comprehensive management plan for the Sanctuary was implemented in July 1997. The management plan focused on ten action plans which were largely non-regulatory in nature and involved educating citizens and visitors, using volunteers to build stewardship for local marine resources, appropriately marking channels and waterways, installing and maintaining mooring buoys for vessel use, surveying maritime heritage resources, and protecting water quality. In addition to action plans, the 1997 management plan designated five types of marine zones to reduce pressures in heavily used areas, protect critical habitats and species, and reduce user conflicts. The efficacy of the marine zones is monitored Sanctuary-wide under the Research and Monitoring Action Plan.

The implementing regulations for the FKNMS became effective July 1, 1997. The 1997 management plan was published in three volumes: Volume I is the Sanctuary management plan itself (which this document updates); Volume II describes the process used to develop the draft management alternatives, including environmental and socioeconomic impact analyses of the alternatives, and the environmental impact statement; Volume III contains appendices, including the texts of Federal and State legislation that designate and implement the Sanctuary. All three volumes of the 1997 management plan are available on the Sanctuary Web site (http://floridakeys.noaa.gov/) and from the Sanctuary's Marathon office. Volume II is not being revised as part of the review. After public input, government review and final adoption of this five-year review and revised Management Plan, this document will replace Volumes I and III.

Sanctuary Characteristics

The Florida Keys National Marine Sanctuary extends approximately 220 nautical miles southwest from the southern tip of the Florida peninsula. The Sanctuary's marine ecosystem supports over 6,000 species of plants, fishes, and invertebrates, including the nation's only living coral reef that lies adjacent to the continent. The area includes one of the largest seagrass communities in this hemisphere. Attracted by this tropical diversity, tourists spend more than thirteen million visitor days in the Florida Keys each year. In addition, the region's natural and man-made resources provide livelihoods for approximately 80,000 residents.

The Sanctuary is 2,900 square nautical miles of coastal waters, including the recent addition of the Tortugas Ecological Reserve. The Sanctuary overlaps six state parks and three state aquatic preserves. Three national parks have separate jurisdictions, and share a boundary with the Sanctuary. In addition, the region has some of the most significant maritime heritage and historical resources of any coastal community in the nation.

The Sanctuary faces specific threats, including direct human impacts such as ship groundings, pollution, and overfishing. Threats to the Sanctuary also include indirect human impacts, which are harder to identify but seem to be reflected in coral declines and increases in macroalgae and turbidity. More information about the Sanctuary can be found in this document and at the Sanctuary's Web site: http://floridakeys.noaa.gov.

How the Plan Was Revised

Review began in early 2001 with a meeting in Tallahassee, Florida, among Federal and State partners responsible for Sanctuary management. A scoping process to identify issues and changes was conducted from June 8 through July 20, 2001. During this time, the FKNMS staff, working closely with the Sanctuary Advisory Council (SAC), held public meetings in Marathon, Key Largo, and Key West.

Issues identified during the scoping meetings were integrated into the revised management plan through working groups. The working groups that developed the 1997 management plan were reconstituted. More than three-dozen working groups meetings were held between June and September 2001 to discuss, evaluate and update the document's action plans.

SAC members and FKNMS staff who had served on the working groups presented the proposed revisions to the SAC at three meetings in October 2001. The full advisory council recommended minor changes and approved each action plan in the draft revised management plan.

Management Changes Resulting From the Review

• New Organization. Like the 1997 management plan, this document is arranged around a series of action plans, which articulate the programs and projects used to address identified management issues. Each action plan is composed of strategies sharing common objectives and activities, which are the specific actions the Sanctuary and its partners will implement. In this revised management plan, the action plans have been grouped into five management divisions to improve organization of the document and to further emphasize the ultimate goals for each action plan. The five management divisions are: (1) Sanctuary Science; (2) Education, Outreach and Stewardship; (3) Enforcement and Resource Protection; (4) Resource Threat Reduction; and, (5) Administration, Community Relations and Policy Coordination.

• New Action Plans. Four new action plans have been added:

(a) Science Management and Administration Action Plan—Identifies activities necessary to manage, administer, and coordinate a complex science program to help inform resource managers.

(b) Damage Assessment and Restoration Action Plan—Responds to the 500-600 vessel grounding reported in the Sanctuary annually. This action plan aims to minimize and document groundings, as well as restore damaged resources.

(c) Operations Action Plan—Describes the day-to-day administrative functions required to effectively operate the sanctuary related to human resources, community outreach, and policy coordination.

(d) Evaluation Action Plan—Outlines the steps taken by the Sanctuary staff and its partners on a regular basis to assess the implementation and effectiveness of its management plan.

• Changes to Previous Action Plans. Ten Action Plans were revised and re-organized. Notable changes to management, include:

(a) Research and Monitoring Action Plan—Increased emphasis is given to socioeconomic research and engagement in regional efforts, such as the Everglades restoration. The revised plan also consolidates the Marine Zone Monitoring Program, a key element of determining the effectiveness of marine zoning.

(b) Education and Outreach Action Plan—Revisions emphasize the ability to integrate the latest technology into education and outreach as it becomes available, as well as expanded use of partnerships to better facilitate implementation and build community support.

(c) Volunteer Action Plan—Transfers coordination of the Sanctuary's volunteer programs from The Nature Conservancy to Sanctuary staff and more fully incorporates successful programs administered by Sanctuary partners.

(d) Regulatory Action Plan—A new strategy summarizes issues identified in the scoping process (e.g. fish feeding, pollution discharges, artificial reefs, etc.) that warrant regulatory analysis and possible future regulatory amendments.

(e) Enforcement Action Plan—Increasing both the number of enforcement officers and the level of cross-deputization between officers from various agencies are the most important strategies for enhancing protection and enforcement efforts.

(f) Maritime Heritage Resources Action Plan—No major changes were recommended for this action plan, formerly called the Submerged Cultural Resources Action Plan.

(g) Marine Zoning Action Plan—Changes move beyond the 1997 focus on communicating marine zone rules and locations by focusing on long-term zone management and assessment. This focus includes evaluating boundaries and allowable uses, and making changes, as needed, based on current information. Identifying and evaluating areas for additional marine zoning, and establishing and implementing zones, where appropriate, are significant components of the 2004 revised plan.

(h) Mooring Buoy Resources Action Plan—Larger mooring buoys will be installed in deeper water to accommodate larger vessels. Additionally, a monitoring program is being established at three sites in the Tortugas Ecological Reserve to identify the impacts of moorings in areas that have little diving or boating. Mooring buoys will be removed from areas found to be detrimentally impacted by the presence of these buoys.

(i) Waterway Management Action Plan—Formerly called the Reef/Channel Marking Action Plan, a new activity aims to streamline the permitting process for Idle-Speed/No Wake Shoreline Markers.

(j) Water Quality Action Plan—Building on research and pilot projects that have been completed since the original plan, future work focuses on high priority infrastructure projects for storm and wastewater management.

Selected Accomplishments Since Sanctuary Designation

• Reduced Major Ship Groundings. The Florida Keys National Marine Sanctuary now has dual designations as “An Area to Be Avoided” (ATBA) and a “Particularly Sensitive Sea Area” (PSSA). The ATBA designation has resulted in a significant reduction of major ship groundings (vessels longer than 50 m) since its inception in 1990. The PSSA designation ensures that ATBA boundaries appear on international as well as U.S. nautical charts.

• Improved Water Quality Protection. Both the city of Key West and the State of Florida have declared Florida Keys waters under their jurisdictions as “no-discharge” zones. These regulatory protections have been complemented with enhanced pump-out facilities along with mooring buoy deployments that concentrate boater use in areas with pump-out capabilities.

• Improved Water Quality Management Strategies. Over the last decade a series of pilot projects, targeted research initiatives, and planning efforts, cumulatively totaling over $3.5 million, have resulted in considerable progress toward developing water quality management strategies in the FKNMS. This significant experience—described in a 1996 Report to Congress entitled, “Water Quality Concerns in the Florida Keys: Sources, Effects, and Solutions”—has determined that an infrastructure, rather than a standards-based, approach is the most effective way to achieve desired water quality goals. The next steps are described in the Water Quality Action Plan and focus on infrastructure projects for storm and wastewater management.

• Leveraging Volunteer Stewardship. A Keys-wide volunteer program has provided over 170,000 volunteer hours, a $2.8 million dollar value, over the past twelve years.

• Monitoring Key's Resources. Research and monitoring efforts have provided a series of tools to enable science-based management in the FKNMS. Some examples, include: (1) A 10-volume site characterization detailing living and non-living resources; (2) A benthic habitat map; (3) 10 years of comprehensive monitoring related to water quality, seagrasses, and coral reef/hard bottom communities, at a cost of $10 million; (4) 6-10 years of monitoring changes associated with the Sanctuary's 24 fully protected marine zones with emphasis on reef fish and spiny lobster populations, benthic community structure, and human uses and perceptions; and, (5) over 15 years seawater temperatures monitoring.

• Restoring and Responding to Vessel Groundings. Sanctuary staff have conducted 121 biological assessments of vessel groundings that damaged areas greater than 10 square feet of coral or 10 square yards of seagrass from 1995 to 2001. Staff also conducted or managed structural restoration of coral reef areas at large-vessel damage sites at four reef areas in the Sanctuary. Other efforts have focused on grounding prevention and use of volunteer “Reef Medics” for response to smaller grounding sites.

• Protecting Maritime Heritage Resources. Activities to enhance permitting, research and education of maritime heritage resources in the keys have significantly enhanced protection of these unique resources. Nearly 175 heritage assets have been professionally conserved and are our display at the FKNMS Upper Management Office. A Maritime Heritage Resources Inventory Team, staffed by volunteers, has documented 550 sites in the five-volume set, Underwater Resources of the Florida Keys National Marine Sanctuary Northeast Region. The educational program, A Shipwreck Trail, provides public access and interpretation to cultural resources at nine sites.

• Strengthening Management and Resource Protection with Mooring Buoys. The Sanctuary uses mooring buoys as a direct way to eliminate anchor damage to resources as well as to increase enforcement with marine zone regulations by clearly marking zone boundaries. The Sanctuary has increased the number of mooring buoys within its boundaries from 175 to 400. It has also installed 118 boundary buoys for marine zones, 120 Wildlife Management Area Buoys, and informational buoys along the Shipwreck Trail.

• Improving Waterway Management. The Monroe County's Channel Marking Master Plan has been implemented in Florida waters and reef markings have been improved at the Sambos Complex.

Authority: 16 U.S.C. Section 1431, et seq.

(Federal Domestic Assistance Catalog Number 11.429 Marine Sanctuary Program.)
Dated: February 4, 2005.
Daniel J. Basta,
Director, National Marine Sanctuary Program, National Ocean Services, National Oceanic and Atmospheric Administration.

[FR Doc. 05-2949 Filed 2-15-05; 8:45 am]

BILLING CODE 3510-NK-M